DEPARTMENT OF COMMERCE

International Trade Administration

Mission Statement

AGENCY: Department of Commerce.

ACTION: Notice.

RepCAN 2010—U.S. Matchmaker and Exhibition, Vancouver, Toronto & Montreal, Canada, June 9-10, June 14-15, June 16-17, 2010.

Mission Description

The United States Department of Commerce's International Trade Administration, U.S. and Foreign Commercial Service, is organizing RepCAN 2010 a combined trade mission and exhibition, to be held in Vancouver, British Columbia on June 9-10; Toronto, Ontario on June 14-15; and Montreal, Quebec on June 16-17, under the U.S. and Foreign Commercial Service's Canada First Building Bridges to Prosperity Initiative. RepCAN 2010 is a horizontal event open to all industry sectors. It is designed to provide export-ready, small to medium-sized U.S. companies (SMEs) with a highly efficient and cost-effective opportunity to establish profitable commercial relations with prospective agents, distributors and end-users in any one, two, or all three, of Canada's primary regional markets. RepCAN 2010 also offers U.S. new-to-export firms an ideal opportunity to gain valuable international business experience in a low-risk market with strong potential for high returns.

RepCAN 2010 participants will benefit from a full range of business facilitation and trade promotion services provided by the U.S. Commercial Service in Canada, including:

✓ Current market sector information

✓ Professional Commercial Service business counseling

✓ Pre-event marketing support and promotional consideration

✓ Pre-event market briefings by industry experts

✓ Individual business meetings with potential Canadian partners

✓ Exhibit space for table-top displays and promotional materials

✓ Networking events to include business, industry and government contacts

✓ Full logistical support, including hotel bookings at preferred rates

✓ On-site assistance and support

✓ National market exposure

✓ Listings on CS Canada's website and in a special RepCAN brochure

✓ Follow-up assistance

Commercial Setting

The United States and Canada share the largest and most dynamic commercial relationship in the world. In 2008, two-way merchandise trade crossing our common border with Canada stood at US$596.9 billion, or more than US$1.6 billion per day as U.S. exports to Canada grew by 5.0%. Today, U.S. trade with Canada, just one country, is about the same as total U.S. trade with all 27 countries of the European Union combined. Canada also represents the number one export market for 36 of our 50 states and is among the top five export markets for another ten states.

Canada's geographic proximity, open market economy, stable business climate and receptivity to U.S. goods and services make it the number one gateway to the international marketplace for thousands of U.S. export-ready SMEs. The North American Free Trade Agreement (NAFTA), which provides many U.S. origin goods with duty-free entry into Canada, also contributes to the relatively low-cost, low-risk, access that U.S. SMEs can gain to prosper and grow in the global marketplace.

Leading Sectors in Canada for U.S. Export and Investment:

• Medical Devices

• Safety and Security Equipment

• Agricultural Machinery and Equipment

• Aerospace and Defense

• Consumer Electronics

• Travel and Tourism

• Automotive Aftermarket Parts & Accessories/Service Equipment

• Computer Hardware

• Telecommunications Equipment

• Computer Software

• Oil and Gas Field Machinery

• Electrical Power Systems

Mission Goals

To provide U.S. export-ready, small-to-medium-sized firms with cost-effective, low opportunities to identify, establish and develop valuable long-term business relations in Canada, our number one export market.

To provide state, regional and local governments in the United States with a ready-made vehicle that can be employed to help their rural and minority-owned SMEs cross the threshold into the international market.

To provide our individual participants with export successes and our multipliers with a positive export-development experience.

Mission Scenario

In each city, participants will be invited to attend an informal ice-breaker reception, where they will meet CS staff and receive their updated participant's information package, as well as briefings on the following day's program. Participants will be allowed to set-up their table-top displays and pop-up exhibits that evening. Participants will also be provided with a six-foot draped table for their table-top displays and four chairs for use during the event.

The day of the event will begin with a briefing on “Doing Business in Canada” focusing on the respective regional market and featuring CS Canada business service providers and others speaking on the commercial climate, local business practices, shipping to Canada, and other aspects of doing business in Canada.

Individual one-on-one business meetings with pre-screened prospective Canadian business partners will commence immediately following the briefing in the exhibit hall/meeting room and will continue throughout the day. In addition to one-on-one meetings on site, conference calls and off-site meetings will be conducted with prospective partners, as appropriate.

A networking reception for participants, prospective partners and other members of the local business community will be held at the end of the day.

Proposed Mission Timetable

The proposed schedule allows for about a day and a half in each city.

Wednesday, June 9-10, 2010 | RepCan 2010 begins in Vancouver, British Columbia
| Welcome briefing.
| Business matchmaking: 1 full day of appointments.
| Networking reception.
| Participants will depart June 11.
Monday, June 14-15, 2010 | RepCan 2010's second stop: Toronto, Ontario.
| Welcome briefing.
| Business matchmaking: 1 full day of appointments.
| Networking reception.
| Participants will depart Toronto, Ontario on the morning of June 16 for Montreal, Quebec.
Wednesday, June 16-17, 2010 | Mission's third and last stop: Montreal, Quebec.
| Welcome briefing.
| Business matchmaking: 1 full day of appointments.
| Networking reception.
| Participants will depart June 18.

Participation Requirements

All parties interested in participating in RepCAN must complete and submit an application for consideration by the U.S. Commercial Service. All applicants will be evaluated on their ability to meet certain conditions and best satisfy the selection criteria as outlined below. The mission is open on a first come first served basis. A minimum of 10 and a maximum of 25 companies per stop will be selected to participate from the applicant pool.

Fees and Expenses

After a company has been selected to participate in the RepCAN 2010 event, a payment to the Department of Commerce in the form of a participation fee is required. The participation fee is $1,250 per company for small-and-medium enterprises (SME *) and $1,750 per company for large firms, per stop with up to two company representatives. Expenses for lodging, transportation, most meals, and incidentals will be the responsibility of each mission participant.

* An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 ( see http://www.export.gov/newsletter/march2008/initiatives.html for additional information).

Conditions for Participation

• An applicant must submit a completed and signed event application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria

• Suitability of the company's products or services to the target market(s);

• Applicant's potential for business in the target market(s), including likelihood of exports resulting from the event; and

• Relevance of the company's business line to the mission's goals.

Referrals from political organizations and any documents containing references to partisan political activities (including political contributions) will be removed from an applicant's submission and not considered during the selection process.

Timeframe for Recruitment and Applications

Recruitment for RepCAN 2010 will begin with the release of this mission statement and publication of this announcement in the Federal Register.

RepCAN 2010 recruitment will be conducted in an open and public manner. Outreach will include posting on the Commerce Department trade mission calendar and other Internet Web sites, two webinar presentations (one to multiplier groups, i.e. USEACs, State Offices/Economic Development and one to U.S. companies) press releases to general and trade media, direct mail, broadcast fax, notices by industry trade associations and other multiplier groups, and publicity at industry meetings, symposia, conferences, and trade shows.

RepCAN 2010 will also be promoted through the CS Canada's quarterly newsletter and on CS Canada's homepage— http://www.buyusa.gov.

Recruitment Start: Immediately.

Registration Ends: March 31, 2010.

Participants Arrive: Vancouver, June 9, 2010. Montreal, June 14, 2010. Toronto, June 16, 2010.

Formal Program: Vancouver, June 10, 2010. Montreal, June 15, 2010. Toronto, June 17, 2010.

The U.S. Commercial Service in Canada and its offices in Toronto, Montreal and Vancouver will lead recruitment activities. Applications received after March 31, 2010 will be considered only if space and scheduling constraints permit.

Contacts: RepCAN 2010: Vancouver—Lead, Judy Simonite, Commercial Specialist, U.S. Consulate General—Vancouver, 1095 W. Pender St., #1950, Vancouver, BC V6E 2M6, tel: 604-685-3385, e-mail: Judy.Simonite@mail.doc.gov.

RepCAN 2010: Toronto—Lead, Stefan Popescu, Commercial Specialist, U.S. Consulate General—Toronto, 480 University Ave., #620, Toronto, ON M5G 1V2, tel: 416-595-5412 ext. 223, e-mail: Stefan.Popescu@mail.doc.gov.

RepCAN 2010: Montreal—Lead, Connie Irrera, Commercial Specialist, U.S. Consulate General—Montreal, P.O. Box 65 Stn Desjardins, Montreal, QC H5B 1G1, tel: 514-908-3662, e-mail: Connie.Irrera@mail.doc.gov.

Sean Timmins,
Global Trade Programs, Commercial Service Trade Missions Program.

[FR Doc. E9-29559 Filed 12-10-09; 8:45 am]

BILLING CODE P